SMALL BUSINESS ADMINISTRATION

[Disaster Declaration #14561 and #14562]

Connecticut Disaster #CT-00036

AGENCY: U.S. Small Business Administration

ACTION: Notice.

SUMMARY: This is a Notice that the U.S. Small Business Administration is accepting applications for disaster loans from the State of Connecticut.

Incident: Hurricane Sandy Reopening.

Incident Period: 10/27/2012 through 11/08/2012.

Effective Date: 12/02/2015.

Physical Loan Application Deadline Date: 12/01/2016.

Economic Injury (EIDL) Loan Application Deadline Date: 12/01/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that applications for disaster loans may be filed at the address listed above or other locally announced locations.

The following areas have been determined to be adversely affected by the disaster:

Primary Counties: Fairfield, Middlesex, New Haven, New London

Contiguous Counties:

Connecticut: Hartford, Litchfield, Tolland, Windham

New York: Dutchess Putnam, Westchester

Rhode Island: Kent Washington

The Interest Rates are:

| Percent
For Physical Damage:
Homeowners With Credit Available Elsewhere | 3.375
Homeowners Without Credit Available Elsewhere | 1.688
Businesses With Credit Available Elsewhere | 6.000
Businesses Without Credit Available Elsewhere | 4.000
Non-Profit Organizations With Credit Available Elsewhere | 3.125
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 14561 8 and for economic injury is 14562 0.

The States which received an EIDL Declaration # are Connecticut, New York, Rhode Island.

(Catalog of Federal Domestic Assistance Numbers 59008)

December 2, 2015.
Maria Contreras-Sweet,
Administrator.

[FR Doc. 2015-31193 Filed 12-9-15; 8:45 am]

BILLING CODE 8025-01-P